FEDERAL COMMUNICATIONS COMMISSION

47 CFR Part 73

[DA 16-975; MB Docket No. 16-270; RM-11772]

Radio Broadcasting Services; Pima, Arizona

AGENCY: Federal Communications Commission.

ACTION: Proposed rule.

SUMMARY: This document proposes to amend the FM Table of Allotments, by substituting noncommercial educational Channel *278A for Channel *296A at Pima, Arizona to accommodate the hybrid application, requesting modification of the license for Station KIKO(FM) to specify operation on Channel 243C2 rather than Channel 247C2 at Claypool, Arizona. A staff engineering analysis indicates that Channel *278A can be allotted to Pima consistent with the minimum distance separation requirements of the Commission's rules with a site restriction 10 kilometers (6.2 miles) southeast of the community. The reference coordinates are 32-49-46 NL and 109-45-16 WL.

DATES: Comments must be filed on or before October 17, 2016, and reply comments on or before November 1, 2016.

ADDRESSES: Federal Communications Commission, 445 12th Street SW., Washington, DC 20554. In addition to filing comments with the FCC, interested parties should serve the rule making petitioner and the counter proponent as follows: John F. Garziglia, Esq., Womble Carlyle Sandridge & Rice, LLP, 1200 19th Street NW., Suite 500, Washington, DC 20036.

FOR FURTHER INFORMATION CONTACT: Nazifa Sawez, Media Bureau, (202) 418-2700.

SUPPLEMENTARY INFORMATION: This is a synopsis of the Commission's Notice of Proposed Rule Making, MB Docket No. 16-270, adopted August 25, 2016, and released August 26, 2016. The full text of this Commission decision is available for inspection and copying during normal business hours in the FCC's Reference Information Center at Portals II, CY-A257, 445 12th Street SW., Washington, DC 20554. The full text is also available online at http://apps.fcc.gov/ecfs/. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Arizona, is amended by removing Channel *296A at Pima; and by adding Channel *278A at Pima.

[FR Doc. 2016-21764 Filed 9-8-16; 8:45 am]

BILLING CODE 6712-01-P